COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: May 22, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: On October 29, 1999, January 14, March 3, and 10, 2000, the Committee for Purchase From People Who Are Blind or Severely Disabled published notices (64 FR 58378 and 65 FR 2373, 11548, 12969) of proposed additions to the Procurement List.

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Paper Holder & Micro Note Holder

7510-00-NIB-0385 (Micro Note Holder)

7510-00-NIB-0386 (Paper Holder)

Tab, Hanging File Folder

7510-01-375-0502

7510-01-375-4510

Services

Base Supply Center, Key West Naval Air Station, Key West, Florida

Customization & Distribution of Navy Recruiting Promotional Merchandise, Department of the Navy, FISC Norfolk, Detachment Washington DC, Washington, DC

Grounds Maintenance, Veterans Affairs Medical Center, 800 Zorn Avenue, Louisville, Kentucky

Grounds Maintenance, National Oceanic and Atmospheric Administration, Western Regional Center (WRC), 7600 Sand Point Way N.E., Seattle, Washington

Installation Support Services, Basewide, Fort Hood, Texas

Janitorial/Custodial, U.S. Army Reserve Center, 4655 N. Lexington Avenue, Arden Hills, Minnesota,

Switchboard Operation, Department of Veterans Affairs Medical Center, 510 East Stoner Avenue, Shreveport, Louisiana

This action does not affect current contracts awarded prior to the effective date of this addition or options that may be exercised under those contracts.

Louis R. Bartalot,
Deputy Director (Operations).

[FR Doc. 00-9999 Filed 4-20-00; 8:45 am]

BILLING CODE 6353-01-P